DEPARTMENT OF JUSTICE

Notice of Lodging of Consent Judgment Under the Clean Air Act

Notice is hereby given that on March 7, 2012, a proposed Consent Judgment (“Consent Judgment”) in United States v. 110 Sand Co., et al., No. CV-09-4209, was lodged with the United States District Court for the Eastern District of New York.

In this action the United States, on behalf of the Environmental Protection Agency (“EPA”), brought claims under the Clean Air Act, as amended, 42 U.S.C. 7401 et seq. (hereinafter, “CAA” or the “Act”), against Defendants 110 Sand Company, C. Broman Transportation Corp., Farmingdale Sand Corp., and Broad Hollow Estates, Inc. (collectively, “Defendants”). Defendants owned and operated a demolition and debris landfill located in Suffolk County at 136 Bethpage-Spagnoli Road Melville, New York. Defendants receive at the landfill construction and demolition debris, including wallboard, which contains gypsum. The decay of gypsum produces landfill gases, including hydrogen sulfide gas. The landfill then collects its hydrogen sulfide emissions through the use of a landfill gas collection system, and combusts the hydrogen sulfide through a flare, producing sulfur dioxide. The Complaint asserts claims against Defendants for penalties and injunctive relief under Section 113(b) of the Act, 42 U.S.C. 7413(b), for violation of the Prevention of Significant Deterioration provisions of the Act, CAA §§ 165-169, 42 U.S.C. 7470-7492, and for causing violations of the National Ambient Air Quality Standards for hydrogen sulfide and sulfur dioxide.

The Consent Judgment provides for, among other things: (1) The continued operation and maintenance of state-of-the-art pollution control technology that Defendants installed following enforcement efforts by the United States and during the pendency of this lawsuit; (2) compliance with emissions limitations; (3) the continued operation of monitoring equipment; (4) the maintenance and continued operation of the Landfill's gas collection system; and (5) payment of a civil penalty of $150,000.

The Department of Justice will receive for a period of 30 days from the date of this publication comments relating to the Consent Judgment. Comments should be addressed to the Assistant Attorney General, Environment and Natural Resources Division, and either emailed to pubcomment-ees.enrd@usdoj.gov or mailed to P.O. Box 7611, U.S. Department of Justice, Washington, DC 20044-7611, and should refer to United States v. 110 Sand Co., et al., D.J. Ref. 90-5-2-1-08944.

During the public comment period, the Consent Judgment may also be examined on the following Department of Justice Web site: http://www.usdoj.gov/enrd/Consent_Decrees.html. A copy of the Consent Judgment may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $5.00 (25 cents per page reproduction cost) payable to the U.S. Treasury or, if requesting by email or fax, forward a check in that amount to the Consent Decree Library at the address given above.

Ronald G. Gluck,
Assistant Chief, Environmental Enforcement Section, Environment and Natural Resources Division.

[FR Doc. 2012-6226 Filed 3-14-12; 8:45 am]

BILLING CODE 4410-15-P